DEPARTMENT OF TRANSPORTATION

Federal Aviation Administration

14 CFR Part 39

[Docket No. 2002-SW-37-AD; Amendment 39-13117; AD 2003-08-06]

RIN 2120-AA64

Airworthiness Directives; Eurocopter France Model AS350B, B1, B2, BA, and D Helicopters

AGENCY: Federal Aviation Administration, DOT.

ACTION: Final rule.

SUMMARY: This amendment adopts a new airworthiness directive (AD) for the specified Eurocopter model helicopters that requires fireproofing the engine oil tank breather pipe (breather pipe) where it passes through the firewall from the engine compartment to the main gearbox compartment. This amendment is prompted by the discovery of a design deficiency that permitted the installation of a non-fireproof breather pipe. The actions specified by this AD are intended to prevent the spread of fire between two designated fire zones of the helicopter, additional structural damage, and a decrease in the time available to execute an emergency landing.

DATES: Effective May 22, 2003.

The incorporation by reference of certain publications listed in the regulations is approved by the Director of the Federal Register as of May 22, 2003.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Ed Cuevas, Aviation Safety Engineer, FAA, Rotorcraft Directorate, Regulations Group, Fort Worth, Texas 76193-0111, telephone (817) 222-5355, fax (817) 222-5961.

SUPPLEMENTARY INFORMATION: A proposal to amend 14 CFR part 39 to include an AD for Eurocopter France (Eurocopter) Model AS350B, B1, B2, BA, and D helicopters was published in the Federal Register on November 4, 2002 (67 FR 67131). That action proposed to require modifying the breather pipe by installing a protection sheath, part number ASNA0199-024, on the segment of the engine oil tank breather pipe between the engine and the main gearbox compartments.

The Direction Generale De L'Aviation Civile (DGAC), the airworthiness authority for France, notified the FAA that an unsafe condition may exist on specified Eurocopter model helicopters. The DGAC advises that the breather pipe should be made fireproof by fitting it with a heat-resistant silicone sheath.

Eurocopter has issued AS 350 Service Bulletin No. 79.00.11, Revision No. 1, dated May 5, 2000, which specifies modifying the engine oil tank breather pipe with a high-temperature silicone glass sheath, then inspecting for oil leaks. The service bulletin states that it relates to MOD 072793. It further states that the high-temperature silicone glass sheath, part number (P/N) ASNA0199-024, is included in modification kit 350A0727930071. The DGAC classified this service bulletin as mandatory and issued AD No. 2000-268-078(A), dated June 28, 2000, to ensure the continued airworthiness of these helicopters in France.

Interested persons have been afforded an opportunity to participate in the making of this amendment. Due consideration has been given to the comment received.

One commenter states that we should add the following statement to the AD: “Those aircraft modified in accordance with STC SH3324NM do not apply.” The commenter has a Supplemental Type Certificate that includes the installation of a fire sleeve, which he believes satisfies the intent of this AD. We agree that there may be other methods of compliance that provide an acceptable level of safety; however, we are not changing the AD since Note 1 and paragraph (b) of the AD allow an owner/operator to request approval for an alternate method of compliance if the helicopter has been modified, altered, or repaired so that the performance of the requirements of the AD is affected.

After careful review of the available data, including the comments noted above, the FAA has determined that air safety and the public interest require the adoption of the rule as proposed, except in paragraph (a) of this AD, the part number is corrected to read ASNA0199-024, and the reference to the manufacturer's service bulletin is corrected to refer to paragraph “2.B.” instead of “2.A.” The FAA has determined that these changes will neither increase the economic burden on any operator nor increase the scope of the AD.

The FAA estimates that 470 helicopters of U.S. registry will be affected by this AD, that it will take approximately 1 work hour per helicopter to accomplish the required actions, and that the average labor rate is $60 per work hour. Required parts will cost approximately $25 per helicopter. Based on these figures, the total cost impact of the AD on U.S. operators is estimated to be $39,950.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-08-06 Eurocopter France: Amendment 39-13117. Docket No. 2002-SW-37-AD.

Applicability: Eurocopter France Model AS350B, B1, B2, BA, and D helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before flight, unless accomplished previously.

To prevent a fire from spreading from the engine compartment through the firewall to the main gearbox due to a non-fireproof engine oil tank breather pipe (breather pipe), additional structural damage, and a decrease in the time available to execute an emergency landing, accomplish the following:

(a) Modify the engine oil tank breather pipe to make it fireproof by installing a high-temperature silicone glass protective sheath, part number ASNA0199-024, in accordance with the Accomplishment Instructions, paragraph 2.B., in Eurocopter AS 350 Service Bulletin No. 79.00.11, Revision No. 1, dated May 5, 2000.

(b) An alternative method of compliance or adjustment of the compliance time that provides an acceptable level of safety may be used if approved by the Manager, Regulations Group, Rotorcraft Directorate, FAA. Operators shall submit their requests through a FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

(d) The modification shall be done in accordance with Eurocopter AS 350 Service Bulletin No. 79.00.11, Revision No. 1, dated May 5, 2000. This incorporation by reference was approved by the Director of the Federal Register in accordance with 5 U.S.C. 552(a) and 1 CFR part 51. Copies may be obtained from American Eurocopter Corporation, 2701 Forum Drive, Grand Prairie, Texas 75053-4005, telephone (972) 641-3460, and fax (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on May 22, 2003.

Note 3: The subject of this AD is addressed in Direction Generale De L'Aviation Civile (France) AD 2000-268-078(A), dated June 28, 2000.

Issued in Fort Worth, Texas, on April 8, 2003.
Michele M. Owsley,
Acting Manager, Rotorcraft Directorate, Aircraft Certification Service.

[FR Doc. 03-9014 Filed 4-16-03; 8:45 am]

BILLING CODE 4910-13-P